DEPARTMENT OF COMMERCE

Foreign-Trade Zones Board

[Order No. 1493]

Expansion of Foreign-Trade Zone 181-Site 2, Warren (Trumbull County), Ohio

Pursuant to its authority under the Foreign-Trade Zones Act of June 18, 1934, as amended (19 U.S.C. 81a-81u), the Foreign-Trade Zones Board (the Board) adopts the following Order:

Whereas, the Northeast Ohio Trade & Economic Consortium, grantee of Foreign-Trade Zone No. 181, submitted an application to the Board for authority to expand FTZ 181-Site 2, Warren (Trumbull County), Ohio, within the Cleveland Customs and Border Protection (CBP) port of entry (FTZ Docket 3-2006, filed 1/31/2006);

Whereas, notice inviting public comment was given in the Federal Register (71 FR 7008, 2/10/2006) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand and reorganize FTZ 181 is approved, subject to the Act and the Board's regulations, including Section 400.28, and further subject to the Board's standard 2,000-acre activation limit for the overall general-purpose zone project, and a sunset provision that would terminate authority for the additional parcel at Site 2 on December 31, 2011, unless the parcel is activated during that time period pursuant to 19 CFR Part 146 of the CBP regulations.

Signed at Washington, DC, this 1st day of December 2006.

David M Spooner,
Assistant Secretary of Commerce for Import Administration, Alternate Chairman, Foreign-Trade Zones Board.
Attest:
Andrew McGilvray,
Acting Executive Secretary.

[FR Doc. E6-20944 Filed 12-8-06; 8:45 am]

BILLING CODE: 3510-DS-S